SMALL BUSINESS ADMINISTRATION

[Declaration of Disaster #3585; Amdt. #5]

State of Indiana

In accordance with a notice received from the Department of Homeland Security—Federal Emergency Management Agency, effective July 14, 2004, the above numbered declaration is hereby amended to reopen the incident period. The incident period for this declared disaster is now May 25, 2004, through and including June 25, 2004.

All other information remains the same, i.e., the deadline for filing applications for physical damage is August 2, 2004, and for economic injury the deadline is March 3, 2005.

Dated: July 15, 2004.
(Catalog of Federal Domestic Assistance Program Nos. 59002 and 59008.)
Herbert L. Mitchell,
Associate Administrator for Disaster Assistance.

[FR Doc. 04-16599 Filed 7-20-04; 8:45 am]

BILLING CODE 8025-01-P